DEPARTMENT OF THE INTERIOR

Bureau of Land Management

[LLORW00000.L11600000.DF0000.LXSSH1080000.234L1109AF; HAG23-0005]

Notice of Public Meetings for the San Juan Islands National Monument Advisory Committee, Washington

AGENCY: Bureau of Land Management, Interior.

ACTION: Notice of public meetings.

SUMMARY: In accordance with the Federal Land Policy and Management Act and the Federal Advisory Committee Act of 1972, the U.S. Department of the Interior, Bureau of Land Management's (BLM's) San Juan Islands National Monument Advisory Committee (MAC) will meet as follows.

DATES: The MAC will hold a public meeting on Thursday, Feb. 2, 2023. This meeting will run from 9 a.m. to 3 p.m. The meeting will be held via Zoom. A public comment period will be available in the afternoon from 1:30 p.m. until 2:30 p.m.

The MAC will also hold a public meeting on Thursday, May 4, 2023. This meeting will run from 9 a.m. to 3 p.m. The meeting will be held via Zoom. A public comment period will be available in the afternoon from 1:30 p.m. until 2:30 p.m.

ADDRESSES: The Zoom meeting information and instructions will be posted on the Monument Advisory Committee's website at https://www.blm.gov/get-involved/resource-advisory-council/near-you/oregon-washington/san-juan-islands-mac several weeks prior to each meeting and on the press release that goes out a week prior to each meeting.

The public may send written comments to the MAC at BLM Spokane District, Attn. MAC, 1103 N Fancher, Spokane Valley, WA 99212, or via email to jeffclark@blm.gov.

FOR FURTHER INFORMATION CONTACT: Jeff Clark, Spokane District Public Affairs Officer, 1103 N Fancher, Spokane Valley, WA 99212, (509) 536-1297, or jeffclark@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The San Juan Islands MAC is comprised of 12 members representing a wide array of interests, including recreation, Tribal interests, education, environmental organizations, and landowners. All advisory council meetings are open to the public. The February meeting will begin at 9 a.m. with a welcome of the new MAC members. After introductions, the members will spend time reviewing the anticipated Record of Decision for the San Juan Islands National Monument. Discussion and review will continue until a working lunch at noon. The next topic will be to consider opportunities for the MAC to support implementation of the anticipated Resource Management Plan (RMP). At 1:30 p.m., members of the public will have the opportunity to make comments to the MAC during a 1-hour public comment period. Persons wishing to make comments during the public comment period will be called upon by the MAC Chair. Depending on the number of persons wishing to comment, the length of comments may be limited. The MAC will adjourn no later than 3 p.m.

The May meeting will also begin at 9 a.m. with welcomes and introductions. After introductions, the members will spend time reviewing possible implementation projects the MAC can assist with and clarifying items from the BLM. This discussion and review will continue through a working lunch at noon. The next topic will be to consider opportunities for the MAC to support implementation of the RMP. At 1:30 p.m., members of the public will have the opportunity to make comments to the MAC during a 1-hour public comment period. Persons wishing to make comments during the public comment period will be called upon by the MAC Chair. Depending on the number of persons wishing to comment, the length of comments may be limited. The MAC will adjourn no later than 3 p.m.

Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

Before including your address, phone number, email address, or other personal identifying information in your comment, you should be aware that your entire comment—including your personal identifying information—may be made publicly available at any time. While you can ask us in your comment to withhold your personal identifying information from public review, we cannot guarantee that we will be able to do so.

(Authority: 43 CFR 1784.4-2.)

Kurt Pindel,
Spokane District Manager.

[FR Doc. 2023-00528 Filed 1-11-23; 8:45 am]

BILLING CODE 4310-33-P